DEPARTMENT OF AGRICULTURE

Food Safety and Inspection Service

[Docket No. 02-033N]

Technical Conference on Foreign Material Contaminants, Prerequisite Programs, and Validation

AGENCY: Food Safety and Inspection Service, USDA.

ACTION: Notice of public meeting; request for comments.

SUMMARY: The Food Safety and Inspection Service (FSIS) is announcing that it will hold a one-and-a-half-day technical conference on September 24 and 25, 2002, on foreign material contaminants, prerequisite programs, and validation to discuss issues related to these topics.

DATES: The public meeting is scheduled for Tuesday, September 24, and Wednesday, September 25, 2002. The meeting will be held from 8 a.m. to approximately 5 p.m. the first day and from 8 a.m. to 1 p.m. the second day.

ADDRESSES: The public meeting will be held at the Double Tree Inn, 1616 Dodge Street, Omaha, Nebraska; telephone (402) 346-7600. A tentative agenda is available in the FSIS Docket Room and on the FSIS Web site at http://www.fsis.usda.gov. FSIS welcomes comments on the topics to be discussed at the public meeting. Please send an original and two copies of comments to the FSIS Docket Room, Docket #02-033N, U.S. Department of Agriculture, Food Safety and Inspection Service, Room 102 Cotton Annex, 300 12th Street, SW., Washington, DC 20250-3700. All comments and the official transcript of the meeting, when they become available, will be kept in the FSIS Docket Room at the address provided above.

FOR FURTHER INFORMATION CONTACT: Charles L. Gioglio at (202) 205-0256. Registration for the meeting will be on-site. Persons requiring a sign language interpreter or other special accommodations should notify Ms. Sheila Johnson as soon as possible at (202) 690-6498.

SUPPLEMENTARY INFORMATION:

Background

FSIS administers the Federal Meat Inspection Act, the Poultry Products Inspection Act, and the Egg Products Inspection Act. The Agency's activities are intended to prevent the distribution in domestic and foreign commerce, as human food, of unwholesome, adulterated, or misbranded meat, poultry, and egg products, including products that may transmit diseases or that may be otherwise injurious to health.

Throughout the 1990's, the Agency's most important goal was an improved food safety inspection system, exemplified by the Pathogen Reduction and Hazard Analysis and Critical Control Point (PR/HACCP) regulations that are now fully implemented. Although a primary goal of the PR/HACCP rule was to eliminate, reduce, and prevent the presence of pathogens, the HACCP regulations also address physical hazards. Recently, there have been questions raised on how foreign materials need to be addressed in the HACCP environment. Therefore, to address such concerns, FSIS is holding this technical conference.

Public Meeting

At the meeting, the Agency will describe, and invite discussion and comment on, circumstances and instances of contamination; the different types of foreign material contamination; health and safety risk aspects; current state of detection and removal; verification; validation; Hazard Analysis and Critical Control Points (HACCP); critical control points and critical limits in relation to foreign materials; and the role of prerequisite programs.

The Agency will present its current thinking on controlling foreign material contaminants through HACCP, Standard Sanitation Operating Procedures (Sanitation SOPs), and prerequisite programs. Discussion panels of food safety experts will review the current state of foreign material contaminant detection, removal, and verification. The Agency intends to seek information from academia, industry sources, and consumers on the best ways to identify such potential hazards and to provide a forum for discussion on how best to control them. The Agency will open the discussion to include, and solicit comment from, the attendees.

Additional Public Notification

Public awareness of all segments of rulemaking and policy development is important. Consequently, in an effort to better ensure that minorities, women, and persons with disabilities are aware of this public meeting notice, FSIS will announce it and make copies of this Federal Register publication available through the FSIS Constituent Update. FSIS provides a weekly FSIS Constituent Update, which is communicated via Listserv, a free e-mail subscription service. In addition, the update is available on-line through the FSIS Web site located at http://www.fsis.usda.gov. The update is used to provide information regarding FSIS policies, procedures, regulations, FSIS public meetings, recalls, Federal Register notices, and any other types of information that could affect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv), go to the “Constituent Update” page on the FSIS Web site at http://www.fsis.usda.gov/oa/update/htm.

Click on the “Subscribe to the Constituent Update Listserv” link, then fill out and submit the form.

Done at Washington, DC on August 27, 2002.
William J. Hudnall,
Acting Administrator.

[FR Doc. 02-22189 Filed 8-29-02; 8:45 am]

BILLING CODE 3410-DM-P